FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Pacific Atlantic Lines, Inc., 530 Main Street, Fort Lee, NJ 07024, Officer: Netanel Gonen President (Qualifying Individual).

Non-Vessel Operating Common Carrier and Ocean Freight Forwarder Transportation Intermediary Applicants

United Aline Services Inc., 111 Great Neck Road, Suite 312, Great Neck, NY 11021, Officer: Gao, Yunyan, President (Qualifying Individual).

Merco International, Inc., 7372 N.W. 35 Terrace, Miami, FL 33122, Officers: Ricardo Olascoaga, Director (Qualifying Individual), Jorge Santiago Artaza, President.

Leonardi & Co. USA, Inc., One Cross Island Plaza, Suite 312, Rosedale, NY 11422, Officers: Ralph Di Rado, Secretary (Qualifying Individual), Italo Leonardi, President.

Chicago Int'l Forwarders Inc., 423E. Irving Park Road, Wood Dale, IL 60191, Officers: Janette Nham, President (Qualifying Individual), Luis Spina, Vice President.

Ocean Freight Forwarder—Ocean Transportation Intermediary Applicants:

MBC Brokers Inc., 13823 Judah Avenue, Hawthorne, CA 90250, Officers: John Hanson, President (Qualifying Individual), Ann Hanson, Secretary.

One Bin.Com, Inc., 3406 SW 26 Terrace, Unit C-10, Fort Lauderdale, FL 33312, Officers: Leon Williams, Vice President (Qualifying Individual). Michael Singh, CEO.

Deans International Shipping Co., Inc., 217-21 Merrick Blvd., Laurelton, NY 11413, Officer: Sharon Deans, President (Qualifying Individual).

Dated: April 4, 2003.
Bryant L. VanBrakle,
Secretary.

[FR Doc. 03-8682 Filed 4-8-03; 8:45 am]

BILLING CODE 6730-01-P